SECURITIES AND EXCHANGE COMMISSION

[Release No. 34-65899A; File No. SR-FICC-2008-01]

Self-Regulatory Organizations; Fixed Income Clearing Corporation; Notice of Filing of Proposed Rule Change To Allow the Mortgage-Backed Securities Division To Provide Guaranteed Settlement and Central Counterparty Services; Correction

AGENCY: Securities and Exchange Commission.

ACTION: Notice; correction.

SUMMARY: The Securities and Exchange Commission published a document in the Federal Register of December 12, 2011, concerning a Self-Regulatory Organizations; Fixed Income Clearing Corporation; Notice of Filing of Proposed Rule Change to Allow the Mortgage-Backed Securities Division to Provide Guaranteed Settlement and Central Counterparty Services. The document contained improper timing requirements. Because this filing was received by the Securities and Exchange Commission prior to amendments to Section 19(b) of the Securities Exchange Act (through the Dodd-Frank Wall Street Reform and Consumer Protection Act), the operative timing requirements for the Securities and Exchange Commission's action with respect to the filing are different from the amended timing requirements. However, the release was sent to the Federal Register reflecting the amended and consequently improper timing requirements.

FOR FURTHER INFORMATION CONTACT: Joseph Horn, Division of Trading and Markets, Securities and Exchange Commission, 100 F Street NE., Washington, DC 20549, (202) 551-5765.

Correction

In the Federal Register of December 12, 2010, in FR Doc. 2011-31762, on page 77296, in the thirty-second line of the third column, correct the paragraph to read “Within 35 days of the date of publication of this notice in the Federal Register or within such longer period (i) As the Commission may designate up to 90 days of such date if it finds such longer period to be appropriate and publishes its reasons for so finding or (ii) as to which the self-regulatory organization consents, the Commission shall: (a) By order approve such proposed rule change or (b) institute proceedings to determine whether the proposed rule change should be disapproved.”

Dated: December 12, 2011.
Kevin M. O'Neill,
Deputy Secretary.

[FR Doc. 2011-32164 Filed 12-12-11; 4:15 pm]

BILLING CODE 8011-01-P